DEPARTMENT OF VETERANS AFFAIRS

[OMB Control No. 2900-0600]

Agency Information Collection: (Reconsideration of Denied Claims) Activity: Comment Request

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden; it includes the actual data collection instrument.

DATES: Comments must be submitted on or before November 7, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0600” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0600.”

SUPPLEMENTARY INFORMATION:

This request does not include a form. This informal process only requires submission of a written request for reconsideration denial of healthcare benefits.

OMB Control Number: 2900-0600.

Type of Review: Revision of a currently approved collection.

Abstracts: Provisions for this data collection are included in 38 CFR 17.133. This informal process provides for submission of a written request for reconsideration denial of healthcare benefits. The request contains the reason the claimant believes the decision is erroneous and allows submission of new and relevant information. This process reduces both formal appeals and allows decision making to be more responsive to Veterans using the VA healthcare system. The Federal Register Notice with a 60-day period soliciting comments on this collection of information was published at Vol. 81, No. 120, Wednesday, June 22, 2016.

Affected Public: Individuals or households.

Estimated Annual Burden: 50,826 burden hours.

Estimated Average Burden per Respondent: 30 minutes per response.

Frequency of Response: Annually.

Estimated Annual Responses: 101,652 respondents.

By direction of the Secretary:
Cynthia Harvey-Pryor,
Program Specialist, Office of Privacy and Records Management, Department of Veterans Affairs.

[FR Doc. 2016-24153 Filed 10-5-16; 8:45 am]

BILLING CODE 8320-01-P